DEPARTMENT OF ENERGY

Federal Energy Regulatory Commission

Combined Notice of Filings

July 1, 2010.

Take notice that the Commission has received the following Natural Gas Pipeline Rate and Refund Report filings:

Docket Numbers: RP10-898-000.

Applicants: Gulf South Pipeline Company, LP.

Description: Gulf South Pipeline Company, LP submits its capacity release agreement containing negotiated rate provisions by Gulf South and BP Energy Company.

Filed Date: 06/29/2010.

Accession Number: 20100630-0204.

Comment Date: 5 p.m. Eastern Time on Monday, July 12, 2010.

Docket Numbers: RP10-899-000.

Applicants: Alliance Pipeline LP.

Description: Alliance Pipeline L.P. submits tariff filing per 154.204: July 2010 Auction to be effective 7/1/2010.

Filed Date: 06/30/2010.

Accession Number: 20100630-5040.

Comment Date: 5 p.m. Eastern Time on Monday, July 12, 2010.

Docket Numbers: RP10-900-000.

Applicants: Dominion Transmission, Inc.

Description: Dominion Transmission, Inc. submits tariff filing per 154.203: DTI—2010 Informational Fuel Report to be effective N/A.

Filed Date: 06/30/2010.

Accession Number: 20100630-5043.

Comment Date: 5 p.m. Eastern Time on Monday, July 12, 2010.

Docket Numbers: RP10-901-000.

Applicants: Gas Transmission Northwest.

Description: Gas Transmission Northwest submits part of its FERC Gas Tariff, Third Revised Volume 1-A and Original Sheet 29C and 29D effective 8/1/10.

Filed Date: 06/30/2010.

Accession Number: 20100630-0213.

Comment Date: 5 p.m. Eastern Time on Monday, July 12, 2010.

Docket Numbers: RP10-902-000.

Applicants: Trunkline Gas Company, LLC.

Description: Trunkline Gas Company, LLC submits tariff filing per 154.203: Baseline Filing to be effective 6/30/2010.

Filed Date: 06/30/2010.

Accession Number: 20100630-5100.

Comment Date: 5 p.m. Eastern Time on Monday, July 12, 2010.

Docket Numbers: RP10-903-000.

Applicants: Trunkline LNG Company, LLC.

Description: Trunkline LNG Company, LLC submits tariff filing per 154.203: Misc. Revenue Surcharge Report to be effective N/A.

Filed Date: 06/30/2010.

Accession Number: 20100630-5116.

Comment Date: 5 p.m. Eastern Time on Monday, July 12, 2010.

Docket Numbers: RP10-904-000.

Applicants: Equitrans, LP.

Description: Equitrans, LP submits tariff filing per 154.203: Compliance Filing to Implement NAESB Version 1.8 under Order 587-T to be effective 7/1/2010.

Filed Date: 06/30/2010.

Accession Number: 20100630-5129.

Comment Date: 5 p.m. Eastern Time on Monday, July 12, 2010.

Docket Numbers: RP10-905-000.

Applicants: National Fuel Gas Supply Corporation.

Description: National Fuel Gas Supply Corporation submits 137th Revised Sheet No 9 to its FERC Gas Tariff, Fourth Revised Volume No 1, to be effective 7/1/10.

Filed Date: 06/30/2010.

Accession Number: 20100630-0228.

Comment Date: 5 p.m. Eastern Time on Monday, July 12, 2010.

Docket Numbers: RP10-906-000.

Applicants: Algonquin Gas Transmission, LLC.

Description: Algonquin Gas Transmission, LLC submits tariff filing per 154.204: Negotiated Rate Agreement—NJR Energy Services Contract 781839 to be effective 7/1/2010.

Filed Date: 06/30/2010.

Accession Number: 20100630-5131.

Comment Date: 5 p.m. Eastern Time on Monday, July 12, 2010.

Docket Numbers: RP10-907-000.

Applicants: Kinder Morgan Interstate Gas Trans. LLC.

Description: Kinder Morgan Interstate Gas Transmission LLC submits Original Sheet 4G.05 et al to FERC Gas Tariff, Fourth Revised Volume 1A effective 7/1/10.

Filed Date: 06/30/2010.

Accession Number: 20100630-0227.

Comment Date: 5 p.m. Eastern Time on Monday, July 12, 2010.

Docket Numbers: RP10-908-000.

Applicants: Natural Gas Pipeline Company of America.

Description: Natural Gas Pipeline Company of America LLC submits an existing negotiated rate agreement.

Filed Date: 06/30/2010.

Accession Number: 20100630-0222.

Comment Date: 5 p.m. Eastern Time on Monday, July 12, 2010.

Docket Numbers: RP10-909-000.

Applicants: Natural Gas Pipeline Company of America.

Description: Natural Gas Pipeline Company of America LLC submits Original Sheet 35C.18 et al of its FERC Gas Tariff, Seventh Revised Volume 1 effective 7/1/10.

Filed Date: 06/30/2010.

Accession Number: 20100630-0223.

Comment Date: 5 p.m. Eastern Time on Monday, July 12, 2010.

Docket Numbers: RP10-910-000.

Applicants: Natural Gas Pipeline Company of America.

Description: Natural Gas Pipeline Company of America LLC submits Original Sheet 35C.17 of its FERC Gas Tariff, Seventh Revised Volume 1 effective 7/1/10.

Filed Date: 06/30/2010.

Accession Number: 20100630-0224.

Comment Date: 5 p.m. Eastern Time on Monday, July 12, 2010.

Docket Numbers: RP10-911-000.

Applicants: Gas Transmission Northwest Corporation.

Description: Gas Transmission Northwest Corporation submits tariff filing per 154.203: Baseline Filing to be effective 6/30/2010.

Filed Date: 06/30/2010.

Accession Number: 20100630-5137.

Comment Date: 5 p.m. Eastern Time on Monday, July 12, 2010.

Docket Numbers: RP10-912-000.

Applicants: Natural Gas Pipeline Company of America.

Description: Natural Gas Pipeline Company of America LLC submits Second Revised Sheet No 34G, to be effective 7/1/10.

Filed Date: 06/30/2010.

Accession Number: 20100630-0225.

Comment Date: 5 p.m. Eastern Time on Monday, July 12, 2010.

Docket Numbers: RP10-913-000.

Applicants: Sea Robin Pipeline Company, LLC.

Description: Sea Robin Pipeline Company, LLC submits Substitute Eighth Revised Sheet No. 7, to be effective 4/1/10.

Filed Date: 06/30/2010.

Accession Number: 20100630-0226.

Comment Date: 5 p.m. Eastern Time on Monday, July 12, 2010.

Docket Numbers: RP10-914-000.

Applicants: Equitrans, LP.

Description: Equitrans, LP submits tariff filing per 154.204: Revised Form of Service Agreements to be effective 8/1/2010.

Filed Date: 06/30/2010.

Accession Number: 20100630-5146.

Comment Date: 5 p.m. Eastern Time on Monday, July 12, 2010.

Docket Numbers: RP10-915-000.

Applicants: Chandeleur Pipe Line Company.

Description: Chandeleur Pipe Line Company submits Eighth Revised Sheet 18 et al. to FERC Gas Tariff, Original Volume 1, to be effective 8/1/10.

Filed Date: 06/30/2010.

Accession Number: 20100630-0218.

Comment Date: 5 p.m. Eastern Time on Monday, July 12, 2010.

Docket Numbers: RP10-916-000.

Applicants: Midwestern Gas Transmission Company.

Description: Midwestern Gas Transmission Company submits tariff filing per 154.203: Midwestern Baseline Filing to be effective 6/30/2010.

Filed Date: 06/30/2010.

Accession Number: 20100630-5156.

Comment Date: 5 p.m. Eastern Time on Monday, July 12, 2010.

Docket Numbers: RP10-917-000.

Applicants: Rockies Express Pipeline, LLC.

Description: Rockies Express Pipeline, LLC submits tariff filing per 154.204: Negotiated Rate 2010-6-30 3 A&R and 1 IT with KMIGT to be effective 7/1/2010.

Filed Date: 07/01/2010.

Accession Number: 20100701-5000.

Comment Date: 5 p.m. Eastern Time on Tuesday, July 13, 2010.

Docket Numbers: RP10-918-000.

Applicants: Alliance Pipeline, LP.

Description: Alliance Pipeline, LP submits tariff filing per 154.204: Fortuna assignment to CNRL July 2010 to be effective 7/1/2010.

Filed Date: 07/01/2010.

Accession Number: 20100701-5014.

Comment Date: 5 p.m. Eastern Time on Tuesday, July 13, 2010.

Docket Numbers: RP10-919-000.

Applicants: Colorado Interstate Gas Company.

Description: Non-Conforming Agreement Update with Front Range Power Company of Colorado Interstate Gas Company.

Filed Date: 06/29/2010.

Accession Number: 20100629-5199.

Comment Date: 5 p.m. Eastern Time on Monday, July 12, 2010.

Docket Numbers: RP10-922-000.

Applicants: Venice Gathering System, LLC.

Description: Venice Gathering System, LLC submits tariff filing per 154.203: Baseline Tariff Filing to be effective 7/1/2010.

Filed Date: 07/01/2010.

Accession Number: 20100701-5032.

Comment Date: 5 p.m. Eastern Time on Tuesday, July 13, 2010.

Docket Numbers: RP10-923-000.

Applicants: Gulf South Pipeline Company, LP.

Description: Gulf South Pipeline Company, LP submits tariff filing per 154.203: Baseline to be effective 7/1/2010.

Filed Date: 07/01/2010.

Accession Number: 20100701-5040.

Comment Date: 5 p.m. Eastern Time on Tuesday, July 13, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-16642 Filed 7-7-10; 8:45 am]

BILLING CODE 6717-01-P